DEPARTMENT OF AGRICULTURE

Forest Service

Intergovernmental Advisory Committee Meeting

AGENCY: Forest Service, USDA.

ACTION: Notice of meeting.

SUMMARY: Due to travel restrictions presently in effect as a result of unusually high Federal wildfire fighting costs, the Intergovernmental Advisory Committee (IAC) will have a conference call (in lieu of a formal meeting) that is scheduled from 11 a.m.-12:30 p.m. on September 10, 2002. The conference line phone number for the call is 208-334-9840. The primary purpose of the call is to provide an update on recent events regarding implementation of the Northwest Forest Plan (NWFP). Agenda items to be discussed include the latest developments with respect to improving upon the present course of NWFP implementation and future IAC operations. Written comments may be submitted, and interested persons are invited to participate.

FOR FURTHER INFORMATION CONTACT: Questions regarding this meeting may be directed to Steve Odell, Executive Director, Regional Ecosystem Office, 333 S.W. First Avenue, P.O. Box 3623, Portland, OR 97208 (Phone: 503-808-2165).

Dated: August 21, 2002.
Stephen J. Odell,
Designated Federal Official.

[FR Doc. 02-22165 Filed 8-28-02; 8:45 am]

BILLING CODE 3410-11-M